FEDERAL RESERVE SYSTEM

A De Novo Corporation to do Business Under Section 25A of the Federal Reserve Act

An application has been submitted for the Board's approval of the organization of a corporation to do business under section 25A of the Federal Reserve Act (“Edge Corporation”) 12 U.S.C. Sec. 611 et seq. The factors that are to be considered in acting on the application are set forth in the Board's Regulation K (12 CFR 211.5).

The application listed below is available for immediate inspection at the Federal Reserve Bank indicated. The application also will be available for inspection at the offices of the Board of Governors. Any comment on an application that requests a hearing must include a statement of why a written presentation would not suffice in lieu of a hearing, identify specifically any questions of fact that are in dispute, ans summarize the evidence that would be presented at a hearing.

Unless otherwise noted, comments regarding this application must be received at the Reserve Bank indicated or the offices of the Board of Governors not later than May 28, 2009.

A. Federal Reserve Bank of New York (Ivan Hurwitz, Bank Applications Officer) 33 Liberty Street, New York, New York 10045-0001:

1. The Governor and Company of the Bank of Ireland, Dublin, Ireland; to establish a de novo Edge Corporation, Bank of Ireland Foreign Exchange Corporation, Orlando, Florida, pursuant to Section 25A of the Federal Reserve Act and Section 211.5(b) of Regulation K.

Board of Governors of the Federal Reserve System, May 8, 2009.
Robert deV. Frierson,
Deputy Secretary of the Board.

[FR Doc. E9-11136 Filed 5-12-09; 8:45 am]

BILLING CODE 6210-01-S